DEPARTMENT OF DEFENSE

Office of the Secretary

Proposed collection; comment request

AGENCY: Office of the Secretary of Defense, DoD.

ACTION: Notice.

In compliance with Section 3506(c)(2)(A) of the Paperwork Reduction Act of 1995, the Defense Security Services (DSS) announces the proposed reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 7, 2004.

ADDRESSES: Written comments and recommendations on the proposed information collection should be sent to Defense Security Service, Program Integration Branch, ATTN: Mr. Richard L. Lawhorn, 1340 Braddock Place, Alexandria, VA 22314-1650.

FOR FURTHER INFORMATION CONTACT: To request more information on this proposed information collection or to obtain a copy of the proposal and associated collection instruments, please write to the above address, or call Defense Security Service, Program Integration Branch (703) 325-5327.

Title: Associated Form; and OMB Number: Personnel Security Investigation Projection for Industry Survey; DSS Form 232; OMB Number 0704-0417.

Needs and Uses: Executive Order (EO) 12829, “National Industrial Security Program (NISP),” stipulates that the Secretary of Defense shall serve as the Executive Agent for inspecting and monitoring the contractors, licensees, and grantees who require or will require access to classified information; and for determining the eligibility for access to classified information of contractors, licensees, and grantees and their respective employees. EO 1282 also authorizes the Executive Agent to issue, after consultation with affected agencies, standard forms that will promote the implementation of the NISP.

Under the NISP, the Defense Security Service is responsible for conducting personnel security investigations of employees of those cleared contractor entities under its security cognizance. In the past, DSS has relied on historical data for agency budget projections regarding the numbers of personnel security investigations required by cleared contractor entities; however, historical data did not provide a particularly accurate or credible estimate of such workload. In this proposed collection of information, DSS requests the voluntary assistance of the Facility Security Officers of cleared contractor entities to provide projections of the numbers and types of personnel security investigations required. The data will be incorporated into DDS' budget submissions.

The Assistant Secretary of Defense assigned DSS responsibility for the following types of investigations within industry:

a. A Single Scope Background Investigation (SSBI).

b. National Agency Check with Local Agency Check and Credit Check (NACLC).

c. SSBI Periodic Reinvestigation (SSBI-PR or TS-PR).

In accordance with 5200.2-R, DSS is also responsible for conducting TS-PRs every 5 years, SECRET-PRs every 10 years and CONFIDENTIAL-PRs every 15 years. In addition, under specified circumstances, DSS is required to conduct SSBIs, NACLCs and National Agency Checks (NACs) for sensitive positions that do not require personnel security clearances.

Representative of various industry associations, the National Industrial Security Program Policy Advisory Committee (NISPPAC), the Military Services, various elements of the Department of Defense and other Federal Government Agencies are aware of the annual survey.

Affected Public: Business or other for profit; Not-for-profit institutions.

Annual Burden Hours: 15,146.

Number of Respondents: 12,117.

Responses per Respondent: 1.

Average Burden per Response: 75 minutes.

Frequency: Annually.

SUPPLEMENTARY INFORMATION:

Summary of Information Collection

The executive of the DSS Form 232 is an essential factor in projecting the needs of cleared contractor entities for PSIs. This collection of information requests the voluntary assistance of the Facility Security Officer to provide projections of the numbers and types of PSIs. The data will be incorporated into DSS' budget submissions. The form is authorized for local reproduction and will be available electronically on the World Wide Web. The form will display OMB approval number 0704-0417.

Dated: September 27, 2004.
Patricia L. Toppings,
Alternate OSD Federal Register Liaison Officer, Department of Defense.

[FR Doc. 04-22685 Filed 10-7-04; 8:45 am]

BILLING CODE 5001-06-M